DEPARTMENT OF COMMERCE

Bureau of Industry and Security

15 CFR Parts 742, 744, and 774

[Docket No. 050401091-5091-01]

RIN 0694-AD37

Expansion of the Country Scope of the License Requirements that Apply to Chemical/Biological (CB) Equipment and Related Technology; Amendments to CB-Related End-User/End-Use and U.S. Person Controls

Correction

In rule document 05-7523 beginning on page 19688 in the issue of Thursday, April 14, 2005, make the following correction:

On page 19692, the first table should be corrected in part to read as follows:

Control(s) | Country chart
* * * * * * *
CB applies to “technology” for items controlled by 1C351, 1C352, 1C353, or 1C354 | CB Column 1.
* * * * * * *

[FR Doc. C5-7523 Filed 4-20-05; 8:45 am]

BILLING CODE 1505-01-D

DEPARTMENT OF TREASURY

Office of the Secretary

31 CFR Part 10

[TD 9165]

RIN 1545-BA70

Regulations Governing Practice Before the Internal Revenue Service

Correction

In rule correction C4-27678 appearing on page 19559 in the issue of April 13, 2005, the correction document should read as follows:

§10.37 [Corrected]

On page 75845, in § 10.37, in the first column, in paragraph (b), in the third line, “June 20, 2004” should read “June 20, 2005”.

[FR Doc. C4-27678 Filed 4-20-05; 8:45 am]

BILLING CODE 1505-01-D